ENVIRONMENTAL PROTECTION AGENCY

[EPA-HQ-OPPT-2007-0420; FRL-8137-6]

Sixtieth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its 60th ITC Report to the Administrator of EPA on June 14, 2007. In the 60th ITC Report, which is included with this notice, the ITC is revising the TSCA section 4(e) Priority Testing List by adding “lead and lead compounds” to the Priority Testing List so that EPA may expeditiously obtain unpublished health and safety studies that relate to the lead content of consumer products that are intended for use by children.

DATES: Comments must be received on or before August 27, 2007.

ADDRESSES: Submit your comments, identified by docket identification (ID) number EPA-HQ-OPPT-2007-0420, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2007-0420. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2007-0420. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

The Toxic Substances Control Act (TSCA) (15 U.S.C. 2601 et seq.) authorizes the Administrator of EPA to promulgate regulations under TSCA section 4(a) requiring testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

You may access additional information about the ITC at http://www.epa.gov/opptintr/itc.

A. The ITC's 60th Report

The ITC is revising the TSCA section 4(e) Priority Testing List by adding “lead and lead compounds” to the Priority Testing List so that EPA may expeditiously obtain unpublished health and safety studies that relate to the lead content of consumer products that are intended for use by children.

B. Status of the Priority Testing List

The Priority Testing List includes 2 alkylphenols, 5 tungsten compounds, 12 lead compounds, 16 chemicals with insufficient dermal absorption rate data, and 243 High Production Volume (HPV) Challenge Program orphan chemicals.

List of Subjects

Environmental protection, Chemicals, Hazardous substances.

Dated: July 23, 2007.
Charles M. Auer,
Director, Office of Pollution Prevention and Toxics.

Sixtieth Report of the TSCA Interagency Testing Committee to the Administrator, U.S. Environmental Protection Agency

Table of Contents

Summary

I. Background

II. TSCA Section 8 Reporting

A. TSCA Section 8 Reporting Rules

B. ITC's Use of TSCA Section 8 and Other Information

C. New Requests to Add Chemicals to the TSCA Section 8(d) HaSDR Rule

III. ITC's Activities During this Reporting Period (December 2006 to May 2007)

IV. Revisions to the TSCA Section 4(e) Priority Testing List: Chemicals Added to the Priority Testing List: Lead and Lead Compounds

V. References

VI. The TSCA Interagency Testing Committee

Summary

The ITC is revising the Toxic Substances Control Act (TSCA) section 4(e) Priority Testing List by adding “lead and lead compounds” to the Priority Testing List so that EPA may expeditiously obtain unpublished health and safety studies that relate to the lead content of consumer products that are intended for use by children.

The TSCA section 4(e) Priority Testing List is Table 1 of this unit.

Table 1.—TSCA Section 4(e) Priority Testing List (May 2007)
ITC Report | Date | Chemical Name/Group | Action
31 | January 1993 | 2 Chemicals with insufficient dermal absorption rate data | Designated
32 | May 1993 | 10 Chemicals with insufficient dermal absorption rate data | Designated
35 | November 1994 | 4 Chemicals with insufficient dermal absorption rate data | Designated
37 | November 1995 | Branched 4-nonylphenol (mixed isomers) | Recommended
41 | November 1997 | Phenol, 4-(1,1,3,3-tetramethylbutyl)- | Recommended
53 | November 2003 | 5 Tungsten compounds | Recommended
55 | December 2004 | 238 High Production Volume (HPV) Challenge Program orphan chemicals | Recommended
56 | August 2005 | 5 HPV Challenge Program orphan chemicals | Recommended
60 | May 2007 | Lead and lead compounds | Recommended

I. Background

The ITC was established by TSCA section 4(e) “to make recommendations to the Administrator respecting the chemical substances and mixtures to which the Administrator should give priority consideration for the promulgation of rules for testing under section 4(a).... At least every six months ..., the Committee shall make such revisions to the Priority Testing List as it determines to be necessary and transmit them to the Administrator together with the Committee's reasons for the revisions” (Public Law 94-469, 90 Stat. 2003 et seq., 15 U.S.C. 2601 et seq.). ITC reports are available from the ITC's website (http://www.epa.gov/oppt/itc) within a few days of submission to the EPA Administrator and from EPA's website (http://www.epa.gov/fedrgstr) after publication in the Federal Register. The ITC produces its revisions to the Priority Testing List with administrative and technical support from the ITC staff, ITC members, and their U.S. Government organizations, and contract support provided by EPA. ITC members and staff are listed at the end of this report.

II. TSCA Section 8 Reporting

A. TSCA Section 8 Reporting Rules

Following receipt of the ITC's report (and the revised Priority Testing List) by the EPA Administrator, the EPA's Office of Pollution Prevention and Toxics (OPPT) may add the chemicals from the revised Priority Testing List to the TSCA section 8(a) Preliminary Assessment Information Reporting (PAIR) rule (40 CFR part 712) and/or the TSCA section 8(d) Health and Safety Data Reporting (HaSDR) rule (40 CFR part 716). The PAIR rule requires manufacturers (including importers) of chemicals added to the Priority Testing List to submit to EPA certain production and exposure information (http://www.epa.gov/oppt/chemtest/pubs/pairform.pdf). The HaSDR rule requires manufacturers (including importers) of chemicals added to the Priority Testing List to submit unpublished health and safety studies to EPA.

B. ITC's Use of TSCA Section 8 and Other Information

ITC's use of TSCA section 8 and other information is described in the 52nd ITC Report (http://www.epa.gov/opptintr/itc/rptmain.htm).

C. New Requests to Add Chemicals to the TSCA Section 8(d) HaSDR Rule

ITC is requesting that EPA add lead and lead compounds to the TSCA section 8(d) HaSDR rule. The lead and lead compounds are discussed in Unit IV. of this report.

III. ITC's Activities During this Reporting Period (December 2006 to May 2007)

During this reporting period, the ITC discussed:

• Lead and lead compounds.

• Alkylphenols.

• Brominated flame retardants.

• Flavoring agents that cause airway obstruction during occupational exposures.

Lead and lead compounds are discussed in Unit IV. of this report.

1. Alkylphenols. As noted in the 59th ITC Report, the ITC is leaving phenol, 4-(1,1,3,3-tetramethylbutyl)- (CAS No. 140-66-9) and phenol, 4-nonyl-, branched (CAS No. 84852-15-3) on the Priority Testing List (Ref. 1). The ITC made this decision because it needed time to:

i. Determine if the existing fish reproductive effects data are sufficient to meet the ITC's data needs.

ii. Determine if phenol, 4-(1,1,3,3-tetramethylbutyl)- or phenol, 4-nonyl-, branched should be tested for avian reproductive effects.

While the ITC is considering whether phenol, 4-(1,1,3,3-tetramethylbutyl)- or phenol, 4-nonyl-, branched should be tested for avian reproductive effects, it has determined that existing fish reproductive effects data are sufficient to meet the ITC's data needs (Tables 2 and 3 of this unit).

Table 2.—Fish Reproductive Effects and Developmental Toxicity Studies for Phenol, 4-Nonyl-, Branched (CAS No. 84852-15-3)
Study
91-Day early life stage test with Rainbow Trout embryos and fry (Ref. 2). Nearly all larvae were abnormal at ≥ 53.09 micrograms/Liter (μg/L). Based on growth, the No Observed Effect Concentration (NOEC) and Lowest Observed Effect Concentration (LOEC) were 6.0 and ≥ 10.3 μg/L, respectively.
33-Day early life stage test with Fathead Minnow embryos and larvae (Ref. 3). Embryos exposed to nonylphenol (NP) began hatching on day 4; control embryos hatched on day 3. Based on survival, the NOEC and LOEC were 7.4 μg/L and 14.0 μg/L, respectively.

Table 3.—Fish Reproductive Effects and Developmental Toxicity Studies for Phenol, 4-(1,1,3,3-tetramethylbutyl)- (CAS No. 140-66-9)
Study Name
60-Day early life stage test with Rainbow Trout embryos and Trout fry (Ref. 4). Based on fry growth, the NOEC and LOEC were 6.1 μg/L and 11.0 μg/L, respectively
1.5-Generation test with Medaka (Ref. 5). Based on growth, the NOEC and LOEC were 20.0 μg/L and 50.0 μg/L, respectively. Based on survival during mating trials of exposed females and unexposed males, the NOEC and LOEC were 2.0 μg/L and 20.0 μg/L, respectively
185-Day life-cycle test with Zebra Fish (Ref. 6). EC50 (fertilization success) = 28 μg/L
185-Day life-cycle test with Zebra Fish (Ref. 7). Based on growth, time to first spawn, egg production, and fertilization success on fish maturing from fry to breeding adults, the NOEC and LOEC were 12.0 and 35.0 μg/L, respectively

2. Brominated flame retardants. During discussions with the American Chemistry Council's Brominated Flame Retardants Industry Panel (BFRIP), Canadian Wildlife Service, and McGill University scientists, the ITC learned that the BFRIP will be sponsoring avian reproductive testing of 1,2,5,6,9,10-hexabromocyclododecane (CAS No. 3194-55-6) or hexabromocyclododecane (CAS No. 25637-99-4) using American Kestrels. The BFRIP provided the ITC with the International Uniform Chemical Information Database (IUCLID) data set for hexabromocyclododecane (CAS No. 25637-99-4) as well as the IUCLID data set and Voluntary Children's Chemical Evaluation Program (VCCEP) Tier I and II data summary for decabromodiphenyl ether (DBDE) (CAS No. 1163-19-5). In addition, the ITC discussed the National Institute of Standards and Technology's (NIST) ongoing work with the National Oceanic and Atmospheric Administration (NOAA), including the collaboration with the National Marine Fisheries Service (NMFS) via cooperation with the Marine Mammal Health and Stranding Response Program. The ITC also discussed the NOAA/NMFS Dolphin Health Assessments, and the Seabird Tissue Archival and Monitoring Project to measure persistent bioaccumulative contaminants, including brominated flame retardants.

3. Flavoring agents that cause airway obstruction during occupational exposures. The ITC discussed the National Institute for Occupational Safety and Health (NIOSH) alert, “Preventing Lung Disease in Workers Who Use or Make Flavorings” (http://www.cdc.gov/niosh/docs/2004-110), because of concerns related to occupational exposures to flavoring agents that may be respiratory irritants.

IV. Revisions to the TSCA Section 4(e) Priority Testing List: Chemicals Added to the Priority Testing List: Lead and Lead Compounds

1. Recommendation. EPA requests that the ITC add the category “lead and lead compounds” to the Priority Testing List (Table 4 of this unit).

Table 4.—Examples of Compounds in the Lead and Lead Compounds Category Being Added to the Priority Testing List
CAS No. | Chemical Name
301-04-2 | Acetic acid, lead(2+) salt
598-63-0 | Carbonic acid, lead(2+) salt (1:1)
1309-60-0 | Lead oxide (PbO2)
1314-87-0 | Lead sulfide (PbS)
7428-48-0 | Octadecanoic acid, lead salt (1:?)
7439-92-1 | Lead
7446-27-7 | Phosphoric acid, lead(2+) salt (2:3)
7758-95-4 | Lead chloride (PbCl2)
7758-97-6 | Chromic acid (H2CrO4), lead(2+) salt (1:1)
13814-96-5 | Borate (1-), tetrafluoro-, lead(2+) (2:1)
53466-66-3 | Silicic acid, lead salt, basic
63653-42-9 | Sulfuric acid, lead salt (1:?), basic

EPA is making this request to obtain unpublished health and safety studies that relate to the lead content of consumer products that are “intended for use by children (as that term is defined at 40 CFR 710.43)¹ (excluding children's metal jewelry) and studies that assess children's exposure to lead from such products (including studies of bioavailability).

¹ For the purposes of this recommendation, “Intended for use by children” has the meaning provided in 40 CFR 710.43 of the TSCA section 8(a) Inventory Update Rule. The definition was originally intended for a different audience (those submitting information under the Inventory Update Rule) but the same concepts can apply to the products at issue here. The definition reads as follows:

Intended for use by children means the chemical substance or mixture is used in or on a product that is specifically intended for use by children age 14 or younger. A chemical substance or mixture is intended for use by children when the submitter answers “yes” to at least one of the following questions for the product into which the submitter's chemical substance or mixture is incorporated:

(1) Is the product commonly recognized (i.e., by a reasonable person) as being intended for children age 14 or younger?

(2) Does the manufacturer of the product state through product labeling or other written materials that the product is intended for or will be used by children age 14 or younger?

(3) Is the advertising, promotion, or marketing of the product aimed at children age 14 or younger?

2. Rationale for recommendation. In pursuit of the Federal goal of eliminating childhood lead poisoning by 2010 (Ref. 8), EPA is looking beyond paint-related sources in an effort to address risks from other potentially significant sources. Although the Consumer Product Safety Commission (CPSC) has an effort underway to address risks from children's metal jewelry containing lead (Ref. 9), there is less information available on the lead content of, and exposure to lead from, other children's products.CPSC is currently addressing lead containing children's metal jewelry, but has not yet established a definition of these products. Thus, EPA recommends that the ITC include the category listing for lead and lead compounds described in Unit IV.1. Information obtained on this category may assist both EPA and CPSC in taking further action as appropriate to protect children from lead poisoning due to lead in products. It should be noted that for the purposes of regulating products by CPSC, products intended for children might not be defined in the same manner as for actions by EPA under TSCA.

3. Supporting information. EPA has a long-standing interest in limiting human and environmental exposure to lead and lead compounds, with special concern for exposures to children. In the context of its Toxic Release Inventory (TRI) Program, EPA has classified lead as a “persistent, bioaccumulative, toxic chemical,” (TRI Lead Rule published in the Federal Register of January 17, 2001 (66 FR 4500) (FRL-6722-4)) and in past actions has presented evidence that lead can cause significant deleterious health effects, particularly in children (e.g., Identification of Dangerous Levels of Lead; Proposed Rule published in the Federal Register of June 3, 1998 (63 FR 30301) (FRL-5791-9)). A major focus of EPA has been on lead and lead compounds in paint, with a particular emphasis to limit lead exposures from paint following enactment of the “Residential Lead-Based Paint Hazard Reduction Act of 1992.” Public Law 102-550. In that Act, Congress emphasized its concerns about children's exposure to lead.

CPSC recently published an Advance Notice of Proposed Rulemaking (ANPRM) in the Federal Register of January 9, 2007 (72 FR 920) addressing certain products beyond paint; CPSC is considering whether there may be a need to ban children's metal jewelry containing more than 0.06% lead by weight in metal components. In addition to children's metal jewelry products, EPA also believes there may be potential risks to children's health from exposure to other products intended for use by children that contain lead or lead compounds. However, information regarding such products is currently incomplete.

4. Information needs. EPA is interested in health and safety studies that relate to the lead content of consumer products that are “intended for use by children” (as defined at 40 CFR 710.43), but excluding “children's metal jewelry” as described by the CPSC in its ANPRM of January 9, 2007.

For all lead and lead compounds, EPA needs the following information to assess the extent and degree of exposure and potential hazard associated with these substances:

• Studies that relate to the lead content of consumer products that are intended for use by children (includes studies showing any measurable lead content), and/or

• Studies that assess children's exposure to lead from such products (including studies of bioavailability).

With regards to grade or purity, studies showing any measurable lead content in such products are of interest.

V. References

1. ITC. 2007. Fifty-Ninth Report of the TSCA Interagency Testing Committee to the Administrator of the Environmental Protection Agency; Receipt of Report and Request for Comments. Federal Register (72 FR 2756, January 22, 2007) (FRL-8110-2). Available on-line at: http://www.epa.gov/fedrgstr.

2. Brooke, L.T. 1993. Acute and chronic toxicity of nonylphenol to ten species of aquatic organisms. Report to the U.S. EPA for Work Assignment No. 02 of Contract No. 68-C1-0034. Lake Superior Research Institute, University of Wisconsin-Superior, Superior, WI. March 24,1993. Amended October 18, 2005.

3. Ward, T.J. and Boeri, R.L. 1991. Early life stage toxicity of nonylphenol to the fathead minnow, Pimephales promelas. Study Number 8979 CMA. EnviroSystems, Hampton, NH.

4. Analytical Bio-Chemistry (ABC) Laboratories, Inc. 1986. Early life stage toxicity of para-tert octylphenol to Rainbow trout (salmo gairdneri). Report 34452. Columbia, MO.

5. Knorr, S. and Braunbeck, T. 2002. Decline in reproductive success, sex reversal, and developmental alterations in Japanese medaka (Oryzias latipes) after continuous exposure to octylpheno1. Ecotoxicology and Environmental Safety Journal. 51:187-196.

6. Segner, H.; Navas, J. M.; Schafers, C.; and Wenzel, A. 2003. Potencies of estrogenic compounds in in vitro screening assays and in life cycle tests with zebraflsh in vitro. Ecotoxicology and Environmental Safety Journal. 54:315-322.

7. Wenzel, A.; Schafers, C.; Vollmer, G., et al. 2001. Research efforts towards the development and validation of a test method for the identification of endocrine disrupting chemicals. Final Report of European Commission Contract B6-7920/98/000015. Schmallenberg, Germany.

8. President's Task Force on Environmental Health Risks and Safety Risks to Children. 2000. Eliminating Childhood Lead Poisoning: A Federal Strategy Targeting Lead Paint Hazards. Available on-line at: http://www.epa.gov/oppt/lead/pubs/fedstrategy2000.pdf.

9. CPSC. Children's Jewelry Containing Lead; Advanced Notice of Proposed Rulemaking; Request for Comments and Information. Federal Register (72 FR 920, January 9, 2007). Available on-line at: http://www.cpsc.gov/businfo/frnotices/fr07/leadjewelry.pdf.

VI. The TSCA Interagency Testing Committee

Statutory Organizations and Their Representatives

Council on Environmental Quality

Vacant

Department of Commerce

National Institute of Standards and Technology

Dianne Poster, Member, Chair

National Oceanographic and Atmospheric Administration

Tony Pait, Member

Environmental Protection Agency

John Schaeffer, Member

Gerry Brown, Alternate

National Cancer Institute

Vacant

National Institute of Environmental Health Sciences

John Bucher, Member

Scott Masten, Alternate

National Institute for Occupational Safety and Health

Dennis W. Lynch, Member Vice-Chair

Mark Toraason, Alternate

National Science Foundation

Cindy Lee, Member

Marge Cavanaugh, Alternate

Occupational Safety and Health Administration

Maureen Ruskin, Member

Thomas Nerad, Alternate

Liaison Organizations and Their Representatives

Agency for Toxic Substances and Disease Registry

Daphne Moffett, Member

Glenn D. Todd, Alternate

Consumer Product Safety Commission

Jacqueline Ferrante, Member

Department of Agriculture

Clifford P. Rice, Member

Laura L. McConnell, Alternate

Department of Defense

Laurie Roszell, Member

Department of the Interior

Barnett A. Rattner, Member

Food and Drug Administration

Kirk Arvidson, Alternate

Ronald F. Chanderbhan, Alternate

National Library of Medicine

Vera W. Hudson, Member

National Toxicology Program

NIEHS, FDA, and NIOSH, Members

Technical Support Contractor

Syracuse Research Corporation

ITC Staff

John D. Walker, Director

Carol Savage, Administrative Assistant

TSCA Interagency Testing Committee, Office of Pollution Prevention and Toxics (7401M), Environmental Protection Agency, 1200 Pennsylvania Ave., NW., Washington, DC 20460-0001; e-mail address: savage.carol@epa.gov; url: http://www.epa.gov/opptintr/itc.

[FR Doc. E7-14575 Filed 7-26-07; 8:45 am]

BILLING CODE 6560-50-S